DEPARTMENT OF HEALTH AND HUMAN SERVICES

Office of the Secretary

Statement of Organization, Functions, and Delegations of Authority; Office of The National Coordinator for Health Information Technology

ACTION: Notice.

SUMMARY: The Office of the National Coordinator for Health Information Technology has reorganized its office in order to more effectively meet the mission outlined by The Health Information Technology for Economic and Clinical Health (HITECH) Act, part of the American Recovery and Reinvestment Act of 2009 (ARRA). The reorganization includes one change and five functional realignments.

FOR FURTHER INFORMATION CONTACT: Sam Shellenberger, Office of the National Coordinator, Office of the Secretary, 200 Independence Ave. SW., Washington, DC 20201, 202-690-7151.

Part A, Office of the Secretary, Statement of Organization, Functions and Delegations of Authority for the Department of Health and Human Services, Chapter AR, Office of the National Coordinator for Health Information Technology (ONC), as amended at 74 FR 62785-62786, dated December 1, 2009, as corrected at 75 FR 49494, dated August 13, 2010, as amended at 76 FR 6795, dated February 8, 2011, and as last amended at 76 FR 65196, dated October 20, 2011, is amended as follows:

I. Under Section AR.10 Organization, insert “Office of the Chief Medical Officer (ARG)” as item C as follows and renumber items C through G accordingly.

II. Under Section AR. 10 Organization, delete “E. Office of the Chief Scientist (ARC)” and replace it with “E. Office of Science and Technology (ARC).”

III. Under Section AR.10 Organization, add a new line, “I. Office of Communications (ARH).”

IV. Under Section AR.20 Functions, insert the following new Paragraph C and renumber Paragraphs C through G accordingly:

C. Office of the Chief Medical Officer (ARG): The Office of the Chief Medical Officer works with and reports directly to the National Coordinator and will be responsible for working with private sector medical organizations to achieve widespread use of health information technology by physicians.

V. Under Section AR.20 Functions, Paragraph B, “Office of the Principal Deputy (ARA1),” at the end of the second sentence, remove “and, Office of the Chief Scientist” and add the following new language to the end of the sentence, “Office of Science and Technology, and Office of Communications.”

VI. Under Section AR.20 Functions, Paragraph E, “Office of the Chief Scientist (ARC)”:

A. Replace all instances of “Office of the Chief Scientist” with “Office of Science and Technology.”

B. Remove “and” before item (6) in the second sentence and add the following new language to the end of the sentence, “; and (7) developing the mechanisms for establishing and implementing standards necessary for nationwide health information exchange.”

VII. Under Section AR.20 Functions, Paragraph F, “Office of the Deputy National Coordinator for Programs & Policy (ARD)”:

A. Under the second sentence, remove ”(3) developing the mechanisms for establishing and implementing standards necessary for nationwide health information exchange;” and renumber items (4) through (6) accordingly.

B. Remove the “and” before “(5)” and add the following new language to the end of the second sentence: “; (6) overseeing consumer use of electronic personal health information; and (7) leading activities for certification of health information technology.”

VIII. Under Section AR.20 Functions, Paragraph G, “Office of the Deputy National Coordinator for Operations (ARE),” third sentence, remove “(5) stakeholder communications;” and renumber item (6) accordingly.

IX. Under Section AR.20 Functions, insert new Paragraph I, as follows:

I. Office of Communications (ARH): The Office of Communications is headed by a Director. The Office is responsible for: (1) Setting the strategic direction for ONC communications efforts; (2) guiding the development of a comprehensive stakeholder communications and constituency relations plan; and, (3) ensuring that all communications activities are developed and implemented consistent with and in support of this plan. The Office's activities promote ONC's broader mission of the nationwide implementation of interoperable health information technology in both the public and private health care sectors. Such activities include identifying ways to increase awareness of the value of electronic health records (EHRs) to improve health care and to create awareness of the HITECH Act provisions among all stakeholders.

X. Delegation of Authority. Pending further delegation, directives or orders by the Secretary or by the National Coordinator for Health Information Technology, all delegations and redelegations of authority made to officials and employees of affected organizational components will continue in them or their successors pending further redelegations, provided they are consistent with this reorganization.

Dated: May 7, 2012.
E.J. Holland, Jr.,
Assistant Secretary for Administration.

[FR Doc. 2012-11910 Filed 5-16-12; 8:45 am]

BILLING CODE 4150-24-P